DEPARTMENT OF HEALTH AND HUMAN SERVICES

Administration for Children and Families

Proposed Information Collection Activity; Comment Request, Proposed Projects

Title: Evaluation of the Community Healthy Marriage Initiative.

OMB No.: New Collection.

Description: The Administration for Children and Families, United States Department of Health and Human Services, is conducting a demonstration and evaluation called the Community Healthy Marriage Initiative (CHMI). Demonstration programs will be funded to support healthy marriage directly as well as encourage community changes in norms that increase support for healthy marriages and improve child and family well-being. The objective of the impact evaluation is to evaluate the community effects of these interventions on marital stability and satisfaction and child and family well-being outcomes among low-income families. Primary data for the impact evaluation will come from three waves of in-person data collection. This collection is a baseline survey of community members where CHMI demonstrations are operating, the first of three CHMI surveys. The impact evaluation will assess the effects of community healthy marriage initiatives by comparing family and child well-being outcomes in the CHMI communities with similar outcomes in comparison communities that are well matched to the demonstration project sites.

Respondents: Community members aged 18-49 in three study sites and three comparison communities.

Annual Burden Estimates
Instrument | Number of respondents | Number of responses per respondent | Average burden hours per response | Total burden hours
CHMI Baseline Survey | 4,200 | 1 | 1 | 4,200

Estimated Total Annual Burden Hours: 4200/

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: August 9, 2006.
Robert Sargis,
Reports Clearance Officer.

[FR Doc. 06-6923 Filed 8-14-06; 8:45am]

BILLING CODE 4184-01-M